DEPARTMENT OF ENERGY

Federal Energy Regulatory Commission

[Docket No. CP24-13-000]

MountainWest Overthrust Pipeline, LLC; Notice of Schedule for the Preparation of an Environmental Assessment for the Westbound Compression Expansion Project

On November 2, 2023, MountainWest Overthrust Pipeline, LLC (Overthrust) filed an application in Docket No. CP24-13-000 requesting a Certificate of Public Convenience and Necessity pursuant to Section 7(c) of the Natural Gas Act to construct and operate certain natural gas pipeline facilities. The proposed project is known as the Westbound Compression Expansion Project (Project), which would expand Overthrust's natural gas transmission system at its existing Point of Rocks and Rock Springs Compressor Stations in Sweetwater County, Wyoming, as well as related aboveground facilities in Uinta and Lincoln Counties, Wyoming. The Project would provide an additional 325,000 dekatherms per day (Dth/d) of year-round firm transportation capacity on its existing mainline to western and northwestern U.S. gas markets.

On November 15, 2023, the Federal Energy Regulatory Commission (Commission or FERC) issued its Notice of Application for the Project. Among other things, that notice alerted agencies issuing federal authorizations of the requirement to complete all necessary reviews and to reach a final decision on a request for a federal authorization within 90 days of the date of issuance of the Commission staff's environmental document for the Project.

This notice identifies Commission staff's intention to prepare an environmental assessment (EA) for the Project and the planned schedule for the completion of the environmental review.¹

¹ 40 CFR 1501.10 (2020).

Schedule for Environmental Review

Issuance of EA—June 24, 2024

90-day Federal Authorization Decision Deadline ²—September 22, 2024

² The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

If a schedule change becomes necessary, additional notice will be provided so that the relevant agencies are kept informed of the Project's progress.

Project Description

The Project would provide an expansion of Overthrust's existing pipeline system that would enable Overthrust to provide an additional 325,000 Dth/d of westbound firm transportation capacity to a new delivery point being constructed by Kern River Gas Transmission near Overthrust's existing Roberson Compressor Station in Lincoln County, Wyoming.

The Project would consist of the following facilities and activities, all in Wyoming:

• addition of one gas-fired turbine driven compressor unit with 15,900 nominal horsepower (hp) at the existing Point of Rocks Compressor Station in Sweetwater County;

• addition of one gas-fired turbine driven compressor unit with 15,900 nominal hp at the existing Rock Springs Compressor Station in Sweetwater County;

• an approximate 1,400-foot-long, 24-inch-diameter pipe interconnect (JTL-148) extending from a new tap on Overthrust's mainline 122 at its existing North Rendezvous Tap facility to a new meter station being constructed by Kern River Gas Transmission at an existing site in Lincoln County;

• upgrades to the existing Rockies Express Pipeline Wamsutter Meter Station to accommodate additional gas volumes in Sweetwater County;

• upgrades at three existing facilities—Roberson Compressor Station (new pig launcher and receiver ³ in Lincoln County), Cabin 31 Interconnect Pipeline Facility (new pig launcher in Sweetwater County), and Opal Interconnect Pipeline Facility (new pig launcher in Lincoln County), to support in-line inspections along the Overthrust mainline; and

³ A “pig” is a tool that the pipeline company inserts into and pushes through the pipeline for cleaning the pipeline, conducting internal inspections, or other purposes.

• modifications to Overthrust's existing Granger Interconnect Facility to accommodate new flow conditions in Sweetwater County.

Background

On December 14, 2023, the Commission issued a Notice of Scoping Period Requesting Comments on Environmental Issues for the Proposed Westbound Compression Expansion Project (Notice of Scoping). The Notice of Scoping was sent to affected landowners; federal, state, and local government agencies; elected officials; environmental and public interest groups; Native American tribes; other interested parties; and local libraries and newspapers. In response to the Notice of Scoping, the Commission received comments from the City Planner of Rock Springs, Wyoming, Wyoming Game and Fish Department in Cheyenne, Wyoming, and Wyoming Department of Environmental Quality. The primary issue raised by the City Planner of Rock Springs is a request for Overthrust to inform the Rock Springs Planning Department with any proposed additions or changes at the existing Blairtown Yard, which is within the city limits of Rock Springs. Wyoming Game and Fish Department requested adherence to the protection of wildlife and wildlife habitat in the vicinity of the Project. Wyoming Department of Environmental Quality comments requested thorough analysis of groundwater and surface water impacts of the Project. All substantive comments will be addressed in the EA.

Portions of the Project would affect lands that Overthrust has leased from the Bureau of Land Management; therefore, the Bureau of Land Management is a cooperating agency in the preparation of the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202)502-6595 or OPP@ferc.gov.

Additional information about the Project is available from the Commission's Office of External Affairs at (866) 208-FERC or on the FERC website (www.ferc.gov). Using the “eLibrary” link, select “General Search” from the eLibrary menu, enter the selected date range and “Docket Number” excluding the last three digits (i.e., CP24-13), and follow the instructions. For assistance with access to eLibrary, the helpline can be reached at (866) 208-3676, TTY (202) 502-8659, or at FERCOnlineSupport@ferc.gov.

The eLibrary link on the FERC website also provides access to the texts of formal documents issued by the Commission, such as orders, notices, and rule makings.

Dated: January 17, 2024.
Debbie-Anne A. Reese,
Acting Secretary.

[FR Doc. 2024-01265 Filed 1-22-24; 8:45 am]

BILLING CODE 6717-01-P